DEPARTMENT OF ENERGY

Federal Energy Regulatory Commission

[Project No. 2082-027; Oregon and California]

PacifiCorp; Notice of Public Meetings Concerning the Relicensing of the Klamath Hydroelectric Project

December 24, 2008.

On February 25, 2004, PacifiCorp filed an application to relicense its 169-MW Klamath Hydroelectric Project. In November 2007, Commission staff issued its final Environmental Impact Statement, in which it analyzed a number of alternatives for relicensing the project. To date, neither the states of Oregon nor California have acted on PacifiCorp's requests for certification under section 401 of the Clean Water Act, precluding Commission action on the license application.

On November 24, 2008, PacifiCorp filed an Agreement in Principle, executed among PacifiCorp; the U.S. Departments of Agriculture, Commerce, and the Interior; and the States of California and Oregon, for the continued operation and potential future removal of Klamath Project dams.

The Agreement in Principle is complex and may have a significant effect on the analysis of PacifiCorp's relicense application. The compatibility of the Agreement with the licensing process and the appropriate procedures for the continued processing of the application will be discussed. Commission staff will hold two public meetings to obtain public comment on these matters. The meetings will be held as follows.

Date: Thursday, January 29, 2009.

Time: 1 p.m. and 7 p.m. (PST).

Place: Best Western Miner's Inn.

Address: 122 East Miner Street, Yreka, California.

For further information, please contact John Mudre at e-mail address john.mudre@ferc.gov or by telephone at (202) 502-8902.

Kimberly D. Bose,
Secretary.

[FR Doc. E8-31308 Filed 1-2-09; 8:45 am]

BILLING CODE 6717-01-P